DEPARTMENT OF VETERANS AFFAIRS

Genomic Medicine Program Advisory Committee; Notice of Meeting

The Department of Veterans Affairs (VA) gives notice under Public Law 92-463 (Federal Advisory Committee Act) that the Genomic Medicine Program Advisory Committee will meet on June 11, 2007 in the Virginia Room, 2nd floor, at the Mayflower Renaissance Hotel, 1127 Connecticut Avenue, NW., Washington, DC. The meeting will convene at 8 a.m. and adjourn at 5:30 p.m. The meeting is open to the public.

The purpose of the Committee is to provide advice and make recommendations to the Secretary of Veterans Affairs on using genetic information to optimize medical care of veterans and to enhance development of tests and treatments for diseases particularly relevant to veterans.

At the June 11 meeting, the Committee will receive an overview of the VA health care system and electronic medical record, and will be asked to provide insight into optimal ways for VA to incorporate genomic information into its health care program while applying appropriate ethical oversight and protecting the privacy of veterans.

Members of the public may make oral statements, limited to 5 minutes each, during the period reserved for public comments. They may also submit, at the time of the meeting, a 1-2 page summary of each statement for inclusion in the official meeting record. Any member of the public seeking additional information should contact Dr. Timothy O'Leary at timothy.oleary@va.gov.

Dated: May 9, 2007.
By direction of the Secretary.
E. Philip Riggin,
Committee Management Officer.

[FR Doc. 07-2397 Filed 5-15-07; 8:45 am]

BILLING CODE 8320-01-M